DEPARTMENT OF HEALTH AND HUMAN SERVICES

Office of the Secretary

Area Poverty Research Centers; Office of the Assistant Secretary for Planning and Evaluation (ASPE)—Area Poverty Research Centers

Announcement Type: Grant—Initial.

CFDA Number: 93.239.

Due Date for Letter of Intent: July 11, 2005.

Due Date for Applications: August 4, 2005.

Executive Summary: Funds are provided for Area Poverty Research Center cooperative agreements for qualified institutions to provide a focused agenda expanding our understanding of the causes, consequences and effects of poverty in local geographic areas or specific substantive areas, especially in states or regional areas of high concentrations of poverty. These cooperative agreements are intended to create a research opportunity for scholars and institutions otherwise unlikely to participate extensively in HHS programs to support the Nation's poverty research effort.

I. Funding Opportunity Description

A. Purpose

The purpose of this announcement is to report the availability of funds to support cooperative agreements for area poverty research centers. HHS has had a long history supporting research and evaluation of important and emerging social policy issues associated with the nature, causes, correlates, and effects of income dynamics, poverty, individual and family functioning and child well-being. ASPE supports a national poverty center at the University of Michigan. The national poverty center conducts a broad program of policy research and mentoring of emerging scholars to describe and analyze national, regional and state environment (e.g., economics, demographics) and policies affecting the poor, particularly those families with children who are poor or at-risk of being poor. ASPE also supports three area poverty centers which focus on issues of regional or state interest. They are housed at the University of Wisconsin at Madison, the University of Kentucky, and the University of Missouri.

These awards (cooperative agreements) replace the current cooperative agreements with the Institute for Research on Poverty (IRP) at the University of Wisconsin, the Rural Poverty Research Center at the University of Missouri and the Center for Poverty Research at the University of Kentucky. Central to the mission of the area poverty research centers is capacity building-supporting faculty research and faculty training; enhancing campus-wide awareness of issues related to poverty; and supporting and mentoring students in poverty and low-income policy related careers. Work of the current poverty centers includes: (1) Expanding the knowledge of the causes and consequences of poverty as well as responses to ameliorate poverty and its impacts on Americans, (2) providing a core of multi-disciplinary researchers, as well as a network of scholars who focus their research on poverty and the poor, (3) developing and training of future social science researchers whose work focuses on poverty and the poor, (4) continuation of the work on the improvement of methods and data to permit a fuller understanding of the causes and consequences of poverty and the social policies and programs meant to alleviate it, and (5) maintaining a network for the dissemination of findings to the policy and research communities through newsletters, working papers, special reports and briefings. Information on the current centers is available on their respective Web sites: http://www.ssc.wisc.edu/irp, http://www.rprconline.org, and http://www.ukcpr.org/Index1.html. We expect the centers funded under this announcement to provide leadership through innovative applied research, evaluation, and mentoring to increase the number and diversity of poverty scholars and heighten awareness of poverty-related issues for all students by bringing relevant content into the classroom. The winning applicant(s) will be expected to carry out a program that continues a strong scholarly tradition and concern for poverty. There are no specific projects that must be continued from the current Centers under this award.

B. Statutory Authority

Section 1110 of the Social Security Act (42 U.S.C. 1310) and awards will be made from funds appropriated under Public Law 108-447.

C. Background

The U.S. continues to experience social changes relating to the economy, demographics, social and behavioral functioning of individuals, families and the well-being of children. The manner by which government and others react to or precipitates these changes also is in a state of evolution. In order to inform the public about these social trends and their causes, consequences, and cures, HHS is soliciting applications for cooperative agreements to university-based institutions. The Assistant Secretary for Planning and Evaluation (ASPE) expects to fund the Area Poverty Research Centers for a period of three (3) years. The first year of funding for an Area Poverty Research Center will be approximately a maximum of $500,000 (combined direct and indirect funding). Subject to the availability of future funds we expect total funding of no more than $1.5 million over the three year period for each center.

Cooperative Agreements are assistance mechanisms and subject to the same administrative requirements as grants. However, they are different from either a grant or a contract. Compared to a grant, they allow more involvement and collaboration by the government in the affairs of the project, but provide less direction of project activities than a contract. The Terms of Award are in addition to, not in lieu of, otherwise applicable guidelines and procedures.

ASPE plans to fund up to three Area Poverty Research Centers. The Area Poverty Research Center cooperative agreements are for qualified institutions to provide a focused agenda expanding our understanding of the causes, consequences and effects of poverty in local geographic areas or specific substantive areas, especially in states or regional areas of high concentrations of poverty. These cooperative agreements are intended to create a research opportunity for scholars and institutions otherwise unlikely to participate extensively in HHS programs to support the Nation's poverty research effort. It is anticipated that investigators supported under the Area Poverty Research Centers will benefit from the opportunity to conduct independent research; that the grantee institutions will benefit from participation in the diverse extramural programs of HHS; and that students will benefit from exposure to and participation in research and be encouraged to pursue graduate studies and careers in the social and behavioral sciences with a focus on poverty.

II. Award Information

Funding Instrument Type: Cooperative Agreements.

Anticipated Total Funding: $1,200,000.

Anticipated Number of Awards: 3-4.

Ceiling on Amount of Individual Awards: $5000,000 per budget period.

Length of Project Periods: 35 month project with three 12 month budget periods.

Applications for renewal or supplementation of existing projects are eligible to compete with applications for new awards.

Responsibilities of the Awardee and the Federal Government in the Establishment and Operation of Area Poverty Research Centers

A. Awardee Responsibilities for Area Poverty Research Centers

The purpose of the Area Poverty Research Centers is to support inter-disciplinary research leading to an understanding and reduction of poverty, income inequality and its correlates. Central to the mission of the area poverty research centers is capacity building—supporting faculty research and faculty training; enhancing campus-wide awareness of issues related to poverty; and supporting and mentoring students in poverty and low-income policy related careers. Applicants are invited to propose multi-level, integrated research projects that will shed light on the complex interactions of the social and physical environment, and mediating behavioral factors, which determine poverty and income inequality. Area Poverty Research Centers are expected to create an environment conducive to interdisciplinary collaborations among social and behavioral scientist and affected communities with the goal of improving well-being of individuals, families and children. The successful applicant(s) shall develop and conduct a program which appropriately balances research, mentoring young scholars, and dissemination activities directed to understanding the well-being of individuals, families and children. Although not required, applicants are encouraged to take advantage of defined geographic areas of study and existing data.

ASPE has identified five priority areas the applicant may address: (1) Strategies to encourage work, self-reliance, parent responsibility, community, and child well-being, (2) The changing labor market and its influence on low-income families with children, (3) Non-marital child-bearing, teen pregnancy, and healthy marriage, (4) Youth transition to adulthood, and (5) State- and local-level policy, programs and interventions, particularly those targeted to geographic concentrations of poverty, to enhance self-sufficiency and well-being. Applications may address all, some, or none of these. If applications do not address any of these priority areas, they must address other important aspects of poverty.

The awardees will perform the following specific tasks:

1. Research Program

Each Area Poverty Research Center will be expected to plan, initiate and maintain a research program of high caliber. It may include small-scale, new or ongoing social, behavioral, policy-related research projects, including pilot research projects and feasibility studies; development, testing, and refinement of research techniques; secondary analysis of available data sets; or similar research projects. Each Center will be expected to carry out or support at least two projects, as well as develop or expand the Center's presence on campus and in the broader research community and involve students in the ongoing research of the center.

2. Mentoring Young Scholars

Each Area Poverty Research Center is expected to develop and expand a diverse corps of young scholars/researchers who focus career goals on policy, research and programs focused on poverty populations. The Area Poverty Research Centers will be expected to develop an awareness and interest in students of the opportunities in poverty research through such activities as research internships, seminars and related experiences. Applicants should demonstrate how students will benefit from exposure to and participation in the ongoing research of Area Poverty Research Center faculty and staff and be encouraged to pursue graduate studies in the social and behavioral sciences with a focus on poverty related studies.

3. Dissemination

Making knowledge and information available to interested parties is to be another integral feature of each Area Poverty Research Center's responsibilities. The Centers will be expected to develop and maintain a dissemination system. Applicants are encouraged to propose use of innovative methods of disseminating data and information. Applications should show a sensitivity to the different dissemination strategies which may be appropriate for different audiences—such as policy makers, practitioners, and academics.

B. ASPE Responsibilities

ASPE will be involved with each Center in jointly establishing broad research priorities and planning strategies to accomplish the objectives of this announcement. ASPE, or its representatives, will provide the following types of support to the Centers: (1) Consultation and technical assistance in planning, operating, and evaluating the Center's program of research, mentoring and dissemination activities, (2) information about HHS programs, policies, and research priorities, (3) assistance in collaborating with appropriate federal, state and local government officials in the performance of program activities, (4) assistance in identifying HHS information and technical assistance resources pertinent to the Center's success, (5) assistance in the transfer of information to appropriate federal, state, and local entities, (6) review of Center activities and feedback to ensure that objectives and award conditions are being met, (7) coordination of activities amongst the centers to ensure, to the extend possible, the optimal use of resources and expertise. ASPE retains the right, however, to withhold annual renewals to the awardee, if technical performance requirements are not met.

C. Joint Responsibilities

Each awardee, jointly with ASPE, will appoint an outside advisory committee, funded under this agreement. Each committee will be selected to provide assistance to both the national poverty center and each Area Poverty Research Center formulating the research agenda and advice on carrying it out. Efforts will be made in selecting this committee to assure a broad range of academic disciplines and political viewpoints. For each Center the committee will be composed of approximately four to six nationally and/or regionally recognized scholars and practitioners and will include the director of the national poverty center. (For a list of the current Advisory Committee members for the three Area Poverty Research Centers see their respective websites: www.ss.cwisc.edu/irp, http://www.rprconline.org, and http://www.ukcpr.org/Index1.html). This committee will meet once a year rotating between Washington, DC and each Area Poverty Research Centers location.

D. Rights to Data

The awardee will retain custody of and have primary rights to the data developed under this award, subject to government rights to access consistent with current HHS regulations. The awardee should make reasonable efforts, however, to provide other research appropriate and speedy access to research data from this project and establish public use files of research data developed under this award.

The Federal share of project costs shall not exceed $500,000 for the first 12-month budget period inclusive of indirect costs and shall not exceed $500,000 per year for the second through third 12-month budget periods. An application that exceeds the upper value dollar range specified will be considered “non-responsive” and be returned to the applicant without further review. The project period will be up to three years. The initial award will be for the first one-year budget period. Requests for a second and/or third year of funding within the project period should be identified in the current applications (on SF-424A), but such requests will be considered in subsequent years on a noncompetitive basis, subject to the applicant eligibility status, the availability of funds, satisfactory progress of the grantee, and a determination that continued funding would be in the best interest of the government.

III. Eligibility Information

1. Eligibility Applicants: Colleges and universities offering baccalaureate or advanced degrees in the social and behavioral sciences. Scholars and researchers working in Area Poverty Research Center eligible institutions located in geographic areas where there are large concentrations of poor are encouraged to participate in this program.

2. Cost Sharing/Matching: Awardees must provide at least 5 percent of the total approved cost of the project. The total approved cost of the project is the sum of the federal share and the non-federal share. The non-federal share may be met by cash or in-kind contributions, although applicants are encouraged to meet their matching requirements through cash contributions. For example, an awardee with a project with a total budget (both direct and indirect costs) of $400,000 may request up to $380,000 in federal funds. Matching requirements cannot be met with fund from other federally-funded programs. If a proposed project activity has approved funding support from other funding support from other funding sources, the amount, duration, purpose, and source of the funds should be indicated in materials submitted under this announcement. If completion of the proposed project activity in contingent upon approval of funding from other sources, the relationship between the funds being sought elsewhere and from ASPE should be discussed in the budget information submitted as a part of the abstract. In both cases, the contribution that ASPE funds will make to the project should be clearly presented.

3. Other: All applicants must have a Dun & Bradstreet number. On June 27, 2003 the Office of Management and Budget published in the Federal Register a new Federal policy applicable to all Federal grant applicants. The policy requires Federal grant applicants to provide a Dun & Bradstreet Data Universal Number System (DUNS) number when applying for Federal grants or cooperative agreements on or after October 1, 2003. A DUNS number will be required for every application for a new award or renewal/continuation of an award, including applications or plans under formula, entitlement and bock grant programs, submitted on or after October 1, 2003.

Please ensure that your organization has DUNS number. You may acquire a DUNS number at no cost by calling the dedicated toll-free DUNS number request line on 1-866-705-5711 or you may request a number on-line at http://www.dnb.com.

Disqualification Factors: Applications that exceed the ceiling amount will be considered non-responsive and will not be considered for funding under this announcement.

Any application that fails to satisfy the deadline requirements will be considered non-responsive and will not be considered for funding under this announcement.

IV. Application and Submission Information

1. Address to Request Application Package: Theresa Jarosik, Grants Management Specialist, National Institute of Allergy and Infectious Diseases, NIH, DEA, DHHS, 6700B Rockledge Drive, Room 2261, Bethesda, MD 20892-7614. For express mail services please use zip code 20817. Additional contact information is as follows: phone: 301-594-7460, fax: 301-480-2599, e-mail: tjarosik@niaid.nih.gov.

Notice of Intent to Submit an Application: If you plan to submit an application, you must notify us by fax or e-mail by July 11, 2005. This information will be used only to determine the number of expert reviewers needed to review the applications. Include only the following information in this fax or e-mail: the title of the announcement; the title of your project; the names, addresses, telephone and fax numbers, e-mail address of the principal investigator and the fiscal agent (if known); and the name of the university. Do not include a description of your proposed project. Send this information to: Audrey Mirsky-Ashby: Fax: 202-690-6562, e-Mail: audrey.mirsky-ashby@hhs.gov.

2. Content and Format of Application Submission: Applicants must limit their application to 50 pages (excluding appendices), double spaced, with standard one-inch margins and 12 point fonts (excluding appendices). This page limit applies to narrative text but not the Standard Federal Forms (see list below). Applicants must number the pages of their application beginning with the Table of Contents. All pages of the narrative must be unbound.

In general, ASPE seeks organizations which can demonstrate the ability to provide quality research, training of emerging scholars, and working with Federal, State and local governments. Applicants for funding should reflect, in the program narrative section of the application, how they will be able to fulfill the responsibilities and requirements described in the announcement. Applications should specify in detail how administrative arrangements will be made to minimize start-up and transition delays. It is expected that the applicant will have additional funding and arrangements with other organizations and institutions, including the host institution(s). The applicant should make all current and anticipated related funding arrangements explicit in the application.

The applicant shall address the following:

(1) Analysis of Key Trends and Past Research

The application shall present a brief analysis of the key trends (e.g., social, demographic, economic) and past research related to the Area Poverty Research Center's proposed focus which provides a basis for the proposed Area Poverty Research Center plan to implement a course of study and capacity building. The analysis should examine the nature, causes, and correlates of one or more of the trends as they relate to the Area Poverty Research Center's focus, as appropriate. The analysis should demonstrate the applicant's grasp of the policy and research significance of recent and future social trends as well as the past research.

(2) Research Agenda

Central to each application shall be a prospectus for a three-year research agenda, outlining the major research themes to be investigated over the next three years. In particular, the prospectus will describe the activities planned for each of the research priority issues proposed by the Area Poverty Research Center. The prospectus should discuss the kind of research activities that will provide information in the priority issues selected and the role of the proposed Area Poverty Research Center in carrying out those activities. The prospectus should be based on the analysis of trends and research. The prospectus may include detailed descriptions of the individual research projects that will be expected in the Center's first year of operation; including the conceptual framework, design, data, methods and proposed analyses. The application should detail the proposed methods to engage researchers and emerging scholars in the research program. It also should be specific about the longer-term research themes and projects. The lines of research described in the prospectus should be concrete enough that project descriptions in subsequent research plan amendments can be viewed as articulating a research theme discussed in the prospectus. An application that simply contains an ad hoc categorization of an unstructured set of research projects—as opposed to a set of projects which strike a coherent theme—will be judged unfavorably. Note: Once a successful applicant has been selected ASPE will review the research agenda and jointly determine future research priorities. The research plan will be periodically reviewed and revised as necessary. The application should discuss a proposed research planning process, including involvement of an outside advisory committee and other advisors, and participation with the National Center and the other Area Poverty Research Centers awarded as part of this action.

(3) Staff and Organizational Plan

The application must include a staffing and organizational proposal for the Area Poverty Research Center, including an analysis of the types of background needed among staff members, the Area Poverty Research Center's organizational structure, and linkages with the host university and other organizations. It is in this third section that the application should specify how it will assure a genuinely interdisciplinary approach to research, and where appropriate, the necessary links to university/college departments or units, other organizations and scholars engaged in research, and government policy making. The applicant shall identify the director (or principal investigator) and key senior research staff. Full resumes of proposed staff members shall be included as a separate appendix to the application. The time commitment to the Area Poverty Research Center and other existing commitments for each proposed staff members shall be clearly indicated in chart form. The kinds of administrative and tenure arrangements, if any, the Area Poverty Research Center proposes to make should also be discussed in this section. In addition, the author(s) of the application and the role which he or she (they) will play in the proposed Area Poverty Research Center must be specified.

If the application envisions an arrangement among two or more colleges, universities or institutions, this section will describe the specifics about the relationships, including leadership, management, and administration. It should pay particular attention to discussing how a focal point for research, teaching, and scholarship will be maintained given the arrangement proposed. The application must describe what steps will be taken to develop or expand the Area Poverty Research Center's presence on campus and in the broader community. The application also should discuss the role, selection procedure, and expected contribution of the external advisory committee.

The application must also include a detailed dissemination plan that describes the process of disseminating findings to interested parties through newsletters, working papers, special reports and briefings.

(4) Training and Mentoring Emerging Scholars

The proposed should present a training and mentoring plan for emerging scholars, describing how students will benefit from exposure to and participation in the ongoing research of the Area Poverty Research Center faculty and staff and how student will be encouraged to pursue graduate studies in the social and behavioral sciences with a focus on poverty related studies. This section shall discuss any financial arrangement for supporting undergraduate and graduate students, research assistant, post-docs, affiliates, resident scholars, etc. The discussion should include the expected number and types of young scholars to be supported, the level of support anticipated, and methods to ensure diversity.

(5) Budget Narrative

The application's budget summary narrative must link the research, mentoring, and dissemination program to the Area Poverty Research Center funding level. This section should discuss how the three-year budget supports proposed research, training, and dissemination activities and should link the first year funding to a three year plan. The discussion should include the appropriateness of the level and distribution of funds to the successful completion of the research, training, and dissemination plans. Also, the limited amount of funds available for this award may indicate the desirability of using these funds as partial, core support for the proposed Center and applicant are encouraged to seek additional support from other sources. The availability, potential availability or prospects for other funds (from the host university, other universities, foundation, states, other Federal agencies, etc.) and the uses to which they would be put, should be documented in this section. Applications which show funding, or well thought out plans to secure funding, from other sources that supplement funds from this grant will be given higher marks than if they have no additional financial support.

Applicants are advised to include all required forms and materials and to organize these materials according to the format, and in the order, presented below.

a. Cover letter.

b. Contact information sheet (see details belows).

c. Standard Federal forms.

Standard Application for Federal Assistance (form 424).

Budget Information—Non-construction Programs (424A).

Certifications regarding lobbying.

Disclosures of lobbying activities (if necessary).

Certification regarding environmental tobacco smoke.

Assurance Regarding Non-construction Program (form 424B).

Assurance regarding protection of human subjects.

d. Table of Contents.

e. Project abstract (not to exceed one page).

f. Project narrative statement (see details below).

g. Appendices.

Proof of nonprofit status.

Curriculum vitae for principal investigators.

Content of Contact Information Sheet: The contact information sheet should include complete contact information, including addresses, phone an fax number, and e-mail addresses, for the Principal Investigator(s) and the institution's grant/financial officer (person who signs the SF-424).

3. Submission Dates and Times: Due Date for Letter of Intent: July 11, 2005.

Due Date for Applications: August 4, 2005.

Explanation of Due Dates

The closing time and date for receipt of applications is referenced above. Applications received after 4:30 p.m. eastern time on the closing date will be classified as late.

Deadline: Applications shall be considered as meeting an announced deadline if they are received on or before the deadline time and date of noted in Section IV.3. Applicants are responsible for ensuring applications are mailed well in advance of the application due date.

Applications hand carried by applicants, applicant couriers, other representatives of the applicant, or by overnight/express mail couriers shall be considered as meeting as announced deadline if they are received on or before the deadline date, between the hours of 8 a.m. and 4:30 p.m., eastern time, at the address reference in Section IV, between Monday and Friday (excluding Federal holidays).

NIAID cannot accommodate transmission of applications by fax. Therefore, applications transmitted by FAX will not be accepted regardless of date or time of submission and time of receipt.

Late applications: Applications that do not meet the criteria above are considered late applications. NIAID shall notify each late application that its application will not be considered in the current competition.

Any application received after 4:30 p.m. eastern time on the deadline date will not be considered for competition.

Applicants using express overnight mail services shall allow two working days prior to the deadline date for receipt of applications. Applicants are cautioned that express/overnight mail services do not always deliver as agreed.

Extension of deadlines: NIAID may extend application deadlines when circumstances such as acts of God (floods, hurricanes, etc.) occur, or when there are widespread disruptions of mail services, or in other rare cases. A determination to extend or waive deadline requirements rests with the Grants Management Officer.

Receipt acknowledge for application packages will be provided to applicants who submit their package via mail, courier services, or by hand delivery. And e-mail notification will be provided within 14 working days to the principal investigator noted on the contact sheet.

Checklist: You may use the checklist below as a guide when preparing your application package.

1. Application for Federal Assistance (Standard Form 424);

2. Budget Information—Non-construction Programs (Standard Form 424A);

3. Assurances—Non-construction Programs (Standard Form 424B);

4. Table of Contents;

5. Budget Justification for Section B Budget Categories;

6. Proof of Non-profit Status, if appropriate;

7. Copy of the applicant's Approved Indirect Cost Rate Agreement, if necessary;

8. Project Narrative Statement, organized in five sections, addressing the following topics (See Part IV):

(a) Key Trend Analysis

(b) Research Agenda Prospectus

(c) Staff and Organizational Plan

(d) Training and Mentoring Emerging Scholars

(e) Budget Narrative

9. Any appendices or attachments;

10. Certification Regarding Drug-Free Workplace;

11. Certification Regarding Debarment, Suspension, or other Responsibility Matters;

12. Certification and, if necessary, Disclosure Regarding Lobbying;

13. Supplement to Section IV—Key Personnel;

14. Application for Federal Assistant Checklist.

4. Intergovernmental Review:

State Single Point of Contact (SOC): The Department of Health and Human Services has determined that this program is not subject to Executive Order No. 12372, Intergovernmental Review of Federal Programs, because it is a program that is national in scope and the only impact on state and local governments would be through subgrants. Applicants are not required to seek intergovernmental review of their applications within the constraints of Executive Order 12372.

5. Funding restrictions: Grant awards will not allow reimbursement of pre-award costs:

6. Other Submission Requirements: Submission by Mail: An applicant must provide an original application with all attachments, signed by an authorized representative and two copies. Applications should be mailed to Theresa Jarosik, Grants Management Specialist, National Institute of Allergy and Infectious Diseases, NIH, DEA, DHHS, 6700B Rockledge Drive, Room 2261, Bethesda, MD 20892-7614. For express mail services please use zip code 20817. Additional contact information is as follows: phone: 301-594-7460, fax: 301-480-2599, e-mail: tjarosik@niaid.nih.gov.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to Theresa Jarosik, Grants Management Specialist, National Institute of Allergy and Infectious Diseases, NIH, DEA, DHHS, 6700B Rockledge Drive, Room 2261, Bethesda, MD 20892-7614.

Electronic submissions and fax submissions will not be allowed.

V. Application Review Information

The Paperwork Reduction Act of 1995 (Pub. L. 104-13)

Public reporting burden for this collection of information is estimated to average 50 hours per response, including the time for reviewing instructions, gathering and maintaining the data needed and reviewing the collection information.

1. Criteria

Evaluation Criteria

(1) Approach and Research Plan (30 points). Reviewers will judge the importance and relevance of the chosen foci of the proposed Area Poverty Research Center. The foci of the Area Poverty Research Center must be clearly articulated. The importance of the chosen foci must be demonstrated throughout the application. Although ASPE has identified five priority areas the applicant may address note that the applications do not have to address these priority areas. The application must demonstrate an understanding of the significant trends and past related research (see section on application development) especially as it relates to the Area Poverty Research Center's proposed foci. The application must demonstrate the applicant's grasp of the significance of these past trends and research. The proposed research agenda must be consistent with the trends and research analysis (see section on application development) and must build on what is known to address important unknowns.

The descriptions of the proposed first year projects or themes must provide sufficient details that would ensure the likelihood of successful completion. At least two projects/themes must be addressed in the first year plan. The longer term themes and projects must be consistent with the trends and past research analysis and must present a coherent plan. The applicant must present an adequate research planning process which includes ASPE and its outside advisory committee. The proposed research planning approach must adequately demonstrate a commitment to bring a multi-disciplinary approach.

(2) Dissemination (10 points). The application must include a detailed dissemination plan. The approach to dissemination must demonstrate thoughtful and effective strategies to reach different audiences—e.g., researchers, policy-makers and practitioners. The dissemination approach must include initiatives such as conferences, workshops, newsletters, publications, working papers, and must be clearly described.

(3) Quality of proposed staffing and proposed organization arrangements (20 points). Reviewers will judge the applicant's proposed center director/principal investigator and staff on research experience, administrative skills, and relevant technical experience. Director and staff time commitment to the Center also will be a factor in the evaluation. Applications will be judged on their plans to reach out to researchers within the college/university as well as researchers beyond the host academic center, particularly those from under-represented groups. Plans for internal advisory or management teams will be assessed. Institutional support (non-monetary as well as monetary support) will also be a factor considered. Efforts to develop or expand the Center's presence on campus and in the broader community will be assessed.

(4) Training and Mentoring Emerging Scholars (25 points). The applicant evaluation will consider proposed efforts to develop and expand a diverse corps of emerging scholars and researchers. The ratings will consider the proposed mentoring and support given to undergraduate and graduate student, research assistants, Ph.D., candidates, postdoctoral students, and other research scholars. The evaluation will include an assessment of plans to integrate the training of research scholars and expose them to policy research activities at ASPE and methods to ensure diversity. The mentoring plan must indicate an adequate level at which investigators have direct contact and/or engage with students. The reviewers will consider proposed efforts to expose and engage students in poverty related research and encourage the pursuit of advanced studies and/or careers in public policy and programs which address the needs of the poverty population.

(5) Adequacy and Appropriateness of Overall Budget and the Allocation of Resources Across Administrative, Research and Other Areas (15 points). The application must include a narrative description and justification for proposed budget line items and demonstrate that the project's costs are adequate, reasonable and necessary for the activities or personnel to be supported. The budget and narrative should have a clear relationship to the approach. The budget must assure an efficient and effective allocation of funds to achieve the objectives of the Center and this solicitation. The budget should reflect an appropriate allocation of funds to support the capacity building functions of the Center—research, mentoring and dissemination. When additional funding is contemplated, applicants should note whether the funding is being donated by the institution, is in-hand from another funding source, or will be applied for from another funding source. Information concerning how the applicant will meet the matching requirement will be evaluated (see Part III, section 2). The budget should include travel for advisory board members.

2. Review and Selection Process

Each application submitted under this program announcement will undergo a pre-review to determine that (1) the application was received by the closing date and submitted in accordance with the instructions in this announcement, (2) the applicant is eligible for funding (see Part III Section B), and (3) is within the page limit (see Part IV, Section A). Note that applications exceeding the page limit will not be reviewed further and will be ineligible for funding.

Applications for the Area Poverty Research Centers that pass the initial screening will be evaluated and rated by a review panel. The panel will use the evaluation criteria listed below to score each application. The evaluation criteria were designed to assess the quality of the proposed project and to determine the likelihood of its success. The evaluation criteria are closely related and are considered as a whole in judging the overall quality of an application. Points are awarded only to applications that are responsive to the evaluation criteria within the context of this program announcement. These review results will be the primary element used by ASPE in making funding decisions. HHS reserves the option to discuss applications with other federal or state staff, specialists, experts, and the general public. Comments from these sources, along with those of the reviewers, will be kept from inappropriate disclosure and may be considered in making an award decision. Selection of the successful applicant(s) will be based on the technical and financial criteria laid out in this announcement. Reviewers will determine the strengths and weaknesses of each application in terms of the evaluation criteria listed below, provide comments and assign numerical scores—out of a possible 100 points. A summary of all applicant scores and strengths/weaknesses and recommendations will be prepared and submitted to the ASPE for decisions. The point value following each criterion heading indicates the maximum numerical relative weight that each section will be given in the review process. An unacceptable rating on any individual criterion may render the application unacceptable. Consequently, applicants should take care to ensure that all criteria are fully addressed in the applications. Please be sure to refer to Part IV, section 2, application development.

Approval, disapproval, or deferral. On the basis of the review of the application, the Assistant Secretary will either a) approve the application as a whole or in part; b) disapprove the application; or c) defer action on the application for such reasons as lack of funds or a need for further review.

The Assistant Secretary's Discretion. Nothing in this announcement should be construed as to obligate the Assistant Secretary for Planning and Evaluation to make any awards whatsoever. Awards and the distribution of awards among the priority areas are contingent on the needs of the Department at any point in time and the quality of the applications that are received.

Applications must be received in the following format:

1. 12 point font size.

2. Double line spacing (except for appendices).

3.1 inch top, bottom, left, and right margins.

4. Page limit of 50 pages (excluding appendices).

5. Applications that are not received in the format described above and/or exceed the page limit, will not be reviewed. Applicants are requested to be concise. Applicants are encouraged not to attach or include bound reports or other documents.

VI. Award Administration Information

1. Award Notices

A successful applicant can expect to receive notification of grant award by September 16, 2005. This award, which will be signed by the grants officer, is the authorizing document. It will be provided through postal mail to the institution's grants/financial officer who is identified on the contact information sheet.

Notification of disposition. The Assistant Secretary for Planning and Evaluation will notify the applicants of the disposition of their applications. If approved, a signed notification of the award will be sent to the business office named in the ASPE checklist.

2. Administrative and National Policy Requirements

Grantees are subject to the requirements in 45 CFR Part 74 (non-governmental) or 45 CFR PArt 92 (governmental).

All awards are subject to the terms and conditions, cost principles, and other considerations described in the above-mentioned requirements.

For more information on the Code of Federal Regulations, see the National Archives and Records Administration at the following Internet address: http://www.gpoaccess.gov/cfr/index.html.

3. Reporting

The awardee will submit quarterly progress reports no later than 30 days following the end of a quarter, i.e., January 31, April 30, July 31, October 31 to the Grants Specialist, Theresa Jarosik, and the Federal Project Officer, Donald T. Oellerich. In general, the report should be brief and should summarize the progress made toward completion of the project. Particular attention should be given to achieving any milestones set forth in the work plan. Changes of personnel and changes in the allocation of funds between budget categories should be noted. The reasons for any significant delays should be described.

The awardee should submit an annual Financial Status Report (Standard Form 269A). This report is due 90 days after the end of each budget period. The SF-269A is posted at: http://www.whitehouse.gov/omb/grants/grants_forms.html. To download the SF-269A, access to an adobe Acrobat Reader is needed. These reports should be sent to the Grants Specialist, Theresa Jarosik (see address listed above).

The awardee must submit a yearly progress report in order to be eligible to receive continuation funding. This progress report must be received two months prior to the start date of the proposed continuation funding.

VII. Agency Contacts

Administrative questions should be directed to Theresa Jarosik at the address or phone number listed above. Requests for forms and questions (administrative and technical) will be accepted and responded to up to 30 days prior to closing date of receipt of Applications. Technical questions should be directed to Audrey Mirsky-Ashby or Don Oellerich, DHHS, Office of Human Services Policy, Telephone: (202) 690-7409. Questions also may be faxed to (202) 690-6562. Written technical questions should be addressed to Dr. Oellerich or Ms. Mirsky-Ashby at the Department of Health and Human Services, ASPE/HSP, 200 Independence Avenue, SW., Room 404E, Hubert H. Humphrey Building, Washington, DC 20201. (Application submissions may not be faxed.)

VIII. Other Information

Nothing in this announcement should be construed as to obligate the Assistant Secretary for Planning and Evaluation to make any awards whatsoever. Awards and the distribution of awards among the priority areas are contingent on the needs of the Department at any point in time and the quality of the applications that are received.

Dated: June 10, 2005.
Michael J. O'Grady,
Assistant for Secretary for Planning and Evaluation.

[FR Doc. 05-12018 Filed 6-17-05; 8:45 am]

BILLING CODE 4154-05-M